DEPARTMENT OF AGRICULTURE

Forest Service

Notice of Proposed New Fee Site; Federal Lands Recreation Enhancement Act, (Title VIII, Pub. L. 108-447)

AGENCY: Rogue River-Siskiyou National Forest, USDA Forest Service.

ACTION: Notice of Proposed New Fee Site.

SUMMARY: The Wild Rivers Ranger District of the Rogue River-Siskiyou National Forest is proposing to charge a $4/day use fee per vehicle at the Illinois River Scenic Recreation area. A seasonal pass of $25 per vehicle and a charge of $10 fee for the overnight use of Store Gulch Campground are also proposed. These fees are proposed to begin in fiscal year 2008. Use of the developed recreation facilities on the Illinois River of the Rogue River-Siskiyou National Forest has shown that the public appreciates and enjoys the availability of the recreation experience. Funds from the fee charges would be used for the continued operation and maintenance of the Illinois River Scenic Recreation area and improvements including law enforcement and sanitation.

DATES: The fees would be charged from May 1 to September 30.

ADDRESSES: Forest Supervisor, Rogue River-Siskiyou National Forest, 333 W. 8th Street/P.O. Box 520, Medford, Oregon 97501-0209.

FOR FURTHER INFORMATION CONTACT: Jerry Sirski, Recreation Specialist, 541-899-3815.

SUPPLEMENTARY INFORMATION: The Federal Recreation Lands Enhancement Act (Title VII, Pub. L. 108-447) directed the Secretary of Agriculture to publish a six month advance notice in the Federal Register whenever new recreation fee areas are proposed.

These facilities are in close proximity to the Wild, Scenic, and Recreational segments of the Illinois River. This area offers significant recreational viewing opportunities, fishing experiences, and is rich in historical and cultural importance. A market analysis indicates that the $4/per day single vehicle fee is both reasonable and acceptable for this sort of unique recreation experience.

Dated: August 29, 2007.
Scott D. Conroy,
Forest Supervisor, Rogue River-Siskiyou National Forest.

[FR Doc. 07-4344 Filed 9-5-07; 8:45 am]

BILLING CODE 3410-11-M